DEPARTMENT OF THE INTERIOR

Bureau of Land Management

[CACA 048810, LLCAD06000, L51010000.FX0000, LVRWB09B2600]

Notice of Availability of the Final Environmental Impact Statement for Palen Solar I, LLC's Palen Solar Power Plant (PSPP) and Proposed California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Proposed California Desert Conservation Area (CDCA) Plan Amendment/Final Environmental Impact Statement (EIS) for the Palen Solar Power Plant project and by this notice is announcing its availability.

DATES: The publication of the Environmental Protection Agency's (EPA) Notice of Availability (NOA) of this Final EIS in the Federal Register initiates a 30-day public comment period. In addition, the BLM planning regulations state that any person who meets the conditions as described in the regulations at 43 CFR 1610.52 may protest the BLM's Proposed CDCA Plan Amendment. A person who meets the conditions and files a protest must file the protest within 30 days of the date that the EPA publishes its notice in the Federal Register. The protest procedures are described in the “Dear Reader” letter accompanying the Proposed Plan Amendment/Final EIS.

ADDRESSES: Copies of the Palen Proposed CDCA Plan Amendment/Final EIS have been sent to affected Federal, state, and local government agencies and to other stakeholders. You may send your comments to the Palm Springs South Coast Field Office, 1201 Bird Center Drive, Palm Springs, California 92262. Copies are also available for public inspection at this address. Interested persons may also review the document at the following Web site: http://www.blm.gov/ca/st/en/fo/palmsprings/Solar_Projects/Palen_Solar_Power_Project.html. All protests must be in writing and mailed to one of the following addresses:

Regular Mail: BLM Director (210), Attention: Brenda Williams, P.O. Box 71383, Washington, DC 20024-1383.

Overnight Mail: BLM Director (210), Attention: Brenda Williams, 20 M Street, SE., Room 2134LM, Washington, DC 20003.

FOR FURTHER INFORMATION CONTACT: For further information contact Allison Shaffer, BLM Project Manager, telephone (760) 833-7100; 1201 Bird Center Drive, Palm Springs, California 92262 or e-mail CAPSSolarPalen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Palen Solar I, LLC (Palen), a wholly-owned subsidiary of Solar Millennium, Inc., has submitted a right-of-way (ROW) application to the BLM for development of the proposed Palen project, consisting of two parabolic-trough solar thermal power plants, each of which has a “solar field” comprised of rows of parabolic mirrors focusing solar energy on collector tubes. The tubes would carry heated oil to a boiler that sends live steam to a steam turbine. The project would be built in 2 phases which are designed to generate in total approximately 500 megawatts (MW) of electricity at full development. The proposed ROW would encompass approximately 5,200 acres; the disturbed area would encompass approximately 3,107 acres. The project is in Riverside County, California, 10 miles east of Desert Center along Interstate 10 halfway between the cities of Indio and Blythe.

The major components and features of the proposed Palen project include the two power plants, an access road, operations facilities (office, warehouse, etc.), a switchyard, an electrical transmission line (which will connect to Southern California Edison's planned Red Bluff substation, 10 miles west of the Palen project site), and two water wells. This dry-cooled power plant would use approximately 300 acre-feet of water per year for feed water makeup, dust control, domestic uses, and mirror washing obtained from on-site water wells.

The BLM's purpose and need for the Final EIS is to respond to Palen's application for a ROW grant to construct, operate, and decommission a solar thermal facility on public lands in compliance with FLPMA, the BLM ROW regulations, and other applicable Federal laws. The BLM will decide whether to grant, grant with modification, or deny a ROW to Palen for the proposed project. The CDCA Plan (1980, as amended), while recognizing the potential compatibility of solar generation facilities with other uses on public lands, requires that all sites proposed for power generation or transmission not already identified in the plan be considered through the plan amendment process. If the BLM decides to grant a ROW for this project, the CDCA Plan would be amended as required. In response to the application received from Palen, the BLM's proposed action is to authorize the Palen project and amend the CDCA Plan to identify the project area as suitable for solar energy production.

In addition to the proposed action, the BLM is analyzing the following action alternatives: Two reconfigured 500-MW alternatives designed to reduce impacts to desert washes, dune habitat, and the Mojave fringe-toed lizard, and a smaller 375-MW alternative. The reconfigured 500-MW alternative that has as an option to use 240 acres of private land, if available, is the preferred alternative. The Final EIS also analyzes a no action alternative that would not approve a CDCA Plan amendment and two no project alternatives that reject the project, but amend the CDCA Plan to: (1) Designate the project area as available to future solar energy power generation projects; or (2) designate the project area as unavailable to future solar energy power generation projects. The BLM will take into consideration the provisions of the Energy Policy Act of 2005 and Secretarial Orders 3283—“Enhancing Renewable Energy Development on the Public Lands”, and 3285A1—“Renewable Energy Development by the Department of the Interior” in responding to the PSPP application.

The Final EIS evaluates the potential impacts of the proposed PSPP and CDCA Plan Amendment on air quality, biological resources, cultural resources, water resources, geological resources and hazards, land use, noise, paleontological resources, public health, socioeconomics, soils, traffic and transportation, visual resources, wilderness characteristics, impacts to Joshua Tree National Park, and other resources.

A Notice of Availability for the Palen Draft CDCA Plan Amendment/Draft EIS was published by EPA in the Federal Register on April 7, 2010 (75 FR 17765). The formal 90-day comment period ended on July 1, 2010. Comments were considered and incorporated as appropriate into the Proposed CDCA Plan Amendment/Final EIS. Public comments resulted in the addition of clarifying text and development of a modified alternative but did not significantly change proposed land use plan decisions.

Instructions for filing a protest with the Director of the BLM regarding the Palen project may be found in the “Dear Reader Letter” of the Proposed CDCA Plan Amendment/Final EIS and at 43 CFR 1610.5-2. E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at (202) 208-5010 and e-mails to Brenda_Hudgens-Williams@blm.gov. All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 1506.10, 43 CFR 1610.2, and 1610.5.

James W. Keeler,
Acting Deputy State Director, California.

[FR Doc. 2011-11657 Filed 5-12-11; 8:45 am]

BILLING CODE 4310-40-P